DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Current Population Survey (CPS), October 2004 School Enrollment Supplement.

Form Number(s): The CPS is conducted by personal or telephone interview using laptop computers. There is no paper questionnaire.

Agency Approval Number: 0607-0464.

Type of Request: Revision of a currently approved collection.

Burden: 7,600 hours.

Number of Respondents: 57,000.

Avg Hours Per Response: 8 minutes.

Needs and Uses: The U.S. Census Bureau requests clearance for the supplemental inquiry concerning school enrollment to be conducted in conjunction with the Current Population Survey (CPS) October 2004 Supplement. The School Enrollment Supplement is jointly sponsored by the U.S. Census Bureau, the Bureau of Labor Statistics (BLS), and the National Center for Education Statistics (NCES). The basic school enrollment questions have been collected annually in the CPS for 40 years. In October 2004, the School Enrollment Supplement will include not only the basic items, but also additional NCES-sponsored items on grade retention, English proficiency, and disabilities (asked of all adults aged 15-24 and children aged 3 years or older), as well as school attendance in the United States (asked of foreign-born adults). In prior October supplements, we have asked similar questions to those that we are requesting for 2004.

This data series provides basic information on enrollment status of various segments of the population necessary as background for policy formation and implementation. The CPS October supplement is the only annual source of data on public/private elementary and secondary school enrollment and characteristics of private school students and their families, which are used for tracking historical trends and for policy planning and support. It is the only source of national data on the age distribution and family characteristics of college students and the only source of demographic data on preprimary school enrollment. As part of the federal government's efforts to collect data and provide timely information to local governments for policymaking decisions, this supplement provides national trends in enrollment and progress in school. Discontinuance of these data would mean not complying with the federal government's obligation to provide data to decision makers on current educational issues and would disrupt a data series that has been in existence for 40 years.

Affected Public: Individuals or households.

Frequency: Annually.

Respondent's Obligation: Voluntary.

Legal Authority: Title 13 U.S.C., Section 182 and Title 29 U.S.C., Sections 1-9.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: July 29, 2004.
Madeleine Clayton,
Management Analyst, Office of the Chief Information Officer.

[FR Doc. 04-17701 Filed 8-3-04; 8:45 am]

BILLING CODE 3510-07-P